DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593, or visit our Web site at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on January 1, 2016, through January 31, 2016. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Injury Compensation Programs, Healthcare Systems Bureau, 5600 Fishers Lane, 08N146B, Rockville, MD 20857. The Court's caption (Petitioner's Name v. Secretary of Health and Human Services) and the docket number assigned to the petition should be used as the caption for the written submission. Chapter 35 of title 44, United States Code, related to paperwork reduction, does not apply to information required for purposes of carrying out the Program.

Dated: February 25, 2016.
James Macrae,
Acting Administrator.

List of Petitions Filed

1. Danielle Lipscomb Malone, Nashville, Tennessee, Court of Federal Claims No: 16-0002V

2. Phyllis Kostura, Allentown, Pennsylvania, Court of Federal Claims No: 16-0003V

3. Heather Choset, New York, New York, Court of Federal Claims No: 16-0004V

4. Joan Coston, Huntsville, Alabama, Court of Federal Claims No: 16-0005V

5. Hannah E. Boyle, Beaver Falls, Pennsylvania, Court of Federal Claims No: 16-0006V

6. Alexandra Toes, Phoenix, Arizona, Court of Federal Claims No: 16-0007V

7. Michelle Green, Carteret, New Jersey, Court of Federal Claims No: 16-0008V

8. Steven E. Pearson, Mankato, Minnesota, Court of Federal Claims No: 16-0009V

9. Ellen Denham, San Francisco, California, Court of Federal Claims No: 16-0010V

10. Kathleen Berrett on behalf of C.B., Boston, Massachusetts, Court of Federal Claims No: 16-0011V

11. Bradley Grow, Grants Pass, Oregon, Court of Federal Claims No: 16-0013V

12. Barbie Smoot, Virginia Beach, Virginia, Court of Federal Claims No: 16-0014V

13. Steven Blazer, Andover, Kansas, Court of Federal Claims No: 16-0015V

14. Arian Walton, Boise, Idaho, Court of Federal Claims No: 16-0016V

15. Amanda Roetto, Hubert, North Carolina, Court of Federal Claims No: 16-0018V

16. Frederick Root and Lisa Root on behalf of M.A.R., Castleton, New York, Court of Federal Claims No: 16-0020V

17. Eric Mateer, Sarasota, Florida, Court of Federal Claims No: 16-0022V

18. Sarah Volpi, Dallas, Texas, Court of Federal Claims No: 16-0023V

19. Carol Williams, Cottage Grove, Minnesota, Court of Federal Claims No: 16-0024V

20. Mark Chiasson, Thibodaux, Louisiana, Court of Federal Claims No: 16-0025V

21. Kelsey Johnson, Indianapolis, Indiana, Court of Federal Claims No: 16-0027V

22. Etta B. Mcintosh, Butler, Alabama, Court of Federal Claims No: 16-0029V

23. Jodi Weitzman, Bellmore, New York, Court of Federal Claims No: 16-0030V

24. Lucy Dipiazza, Sarasota, Florida, Court of Federal Claims No: 16-0031V

25. Mary Thompson, Seward, Nebraska, Court of Federal Claims No: 16-0032V

26. Gloria Guerrero, Beverly Hills, California, Court of Federal Claims No: 16-0033V

27. Catherine S. Jansen-Larson, Wyncote, Pennsylvania, Court of Federal Claims No: 16-0034V

28. Chrystal Derenzo on behalf of A.S., Boston, Massachusetts, Court of Federal Claims No: 16-0035V

29. A.P., Yountville, California, Court of Federal Claims No: 16-0036V

30. Amy Painter, Union Grove, Wisconsin, Court of Federal Claims No: 16-0037V

31. Tommie Cage, Saginaw, Michigan, Court of Federal Claims No: 16-0038V

32. Ann Stoneburner, Watkinsville, Georgia, Court of Federal Claims No: 16-0040V

33. Dominique Sartain, Westerville, Ohio, Court of Federal Claims No: 16-0041V

34. Ronald D. Klopfenstein, Seattle, Washington, Court of Federal Claims No: 16-0042V

35. Janice Clowe, Rye, New York, Court of Federal Claims No: 16-0046V

36. Peter Stokke, Maumelle, Arkansas, Court of Federal Claims No: 16-0048V

37. Diana Hagerman, Cooper City, Florida, Court of Federal Claims No: 16-0052V

38. Barbara Steele, La Jolla, California, Court of Federal Claims No: 16-0067V

39. Deitra Curry, Lake Orion, Michigan, Court of Federal Claims No: 16-0068V

40. Shirley Grossman, Spokane, Washington, Court of Federal Claims No: 16-0069V

41. Jamie Spivak on behalf of C.C., Great Neck, New York, Court of Federal Claims No: 16-0070V

42. Andrea Herlth on behalf of K.H., Middletown, Connecticut, Court of Federal Claims No: 16-0071V

43. Mandy Ward, Denver, Colorado, Court of Federal Claims No: 16-0072V

44. Maddison Verdecia, Little River, South Carolina, Court of Federal Claims No: 16-0073V

45. Rigo Guzman, Fresno, California, Court of Federal Claims No: 16-0074V

46. Dolores Olonovich, Gardenville, Pennsylvania, Court of Federal Claims No: 16-0079V

47. Carla Theeman, Valhalla, New York, Court of Federal Claims No: 16-0080V

48. Donald G. Jones, Jr., Wake Forest, North Carolina, Court of Federal Claims No: 16-0082V

49. Cheryl Zupon, West Mifflin, Pennsylvania, Court of Federal Claims No: 16-0084V

50. Scott Curtis, Marion, Indiana, Court of Federal Claims No: 16-0085V

51. Patricia Wilson, Marlette, Michigan, Court of Federal Claims No: 16-0086V

52. Maria Corulla on behalf of N.J., Staten Island, New York, Court of Federal Claims No: 16-0088V

53. Lynn Botsaris, Worcester, Massachusetts, Court of Federal Claims No: 16-0090V

54. Jason McDunn and Elysia McDunn on behalf of J.M., Eden Prairie, Minnesota, Court of Federal Claims No: 16-0091V

55. Timothy Neel, Windsor, Colorado, Court of Federal Claims No: 16-0096V

56. Jackie Evans, Marion, Illinois, Court of Federal Claims No: 16-0097V

57. Mati Franco, Beverly Hills, California, Court of Federal Claims No: 16-0099V

58. Cynthia Smith, Marinette, Wisconsin, Court of Federal Claims No: 16-0104V

59. Ganesh Upadhiai, Jamaica, New York, Court of Federal Claims No: 16-0111V

60. Julie Fisk, Fayetteville, Arkansas, Court of Federal Claims No: 16-0112V

61. Robert Garcia, Florence, Oregon, Court of Federal Claims No: 16-0114V

62. Amy Battles, Douglasville, Georgia, Court of Federal Claims No: 16-0115V

63. Sarah and Kristopher Ammons on behalf of D.A., Deceased, Knoxville, Tennessee, Court of Federal Claims No: 16-0116V

64. John Barczuk, Bonita, California, Court of Federal Claims No: 16-0117V

65. Nancy Stites, Huntington Beach, California, Court of Federal Claims No: 16-0118V

66. Raymond Roach on behalf of O.G.R., Tulsa, Oklahoma, Court of Federal Claims No: 16-0119V

67. Thomas Aurigemma, Sarasota, Florida, Court of Federal Claims No: 16-0120V

68. Michael L. Black, Avondale, Louisiana, Court of Federal Claims No: 16-0121V

69. Pamela O'Neal, Baraboo, Wisconsin, Court of Federal Claims No: 16-0122V

70. Jeff Holmes and Christal Holmes on behalf of Z.H., Vienna, Virginia, Court of Federal Claims No: 16-0123V

71. Paris Henderson, Boston, Massachusetts, Court of Federal Claims No: 16-0127V

72. Jeri Harvey, Jericho, Vermont, Court of Federal Claims No: 16-0128V

73. Joan Walton, Carson City, Nevada, Court of Federal Claims No: 16-0129V

74. Jean Meizel, Boston, Massachusetts, Court of Federal Claims No: 16-0130V

75. Dante Vasquez, Dallas, Texas, Court of Federal Claims No: 16-0133V

76. Sheila Adams, Richmond, Virginia, Court of Federal Claims No: 16-0135V

77. David Romero, Palo Alto, California, Court of Federal Claims No: 16-0136V

78. Paula Heilig on behalf of I.H., Ridgewood, New York, Court of Federal Claims No: 16-0140V

79. Carol Basko, Dresher, Pennsylvania, Court of Federal Claims No: 16-0142V

80. Donna Callaway, Chicago, Illinois, Court of Federal Claims No: 16-0144V

[FR Doc. 2016-04530 Filed 3-1-16; 8:45 am]

BILLING CODE 4165-15-P